NATIONAL AERONAUTICS AND SPACE ADMINSTRATION

[Notice (05-076)]

NASA Earth Science and Applications from Space Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Earth Science and Applications from Space Strategic Roadmap Committee.

DATES: Wednesday, May 11, 2005, 8:30 a.m. to 5:30 p.m., Thursday, May 12, 2005, 8 a.m. to 5 p.m. eastern standard time.

ADDRESSES: The Latham Hotel, 3000 M Street, NW., Washington, DC 20007.

FOR FURTHER INFORMATION CONTACT: Mr. Gordon Johnston, 202-358-4685.

SUPPLEMENTARY INFORMATION: The meeting will be open to the public up to the seating capacity of the meeting room. Attendees will be requested to sign a register. At the discretion of the chair, part of the meeting may be conducted through break-out subcommittee sessions that will also be open to the public up to the seating capacity of the meeting rooms. The agenda for the meeting is as follows:

—Draft strategic roadmap report presentation developed by NASA staff based on subcommittee and individual member inputs.

—Review and discussion of strategic roadmap report presentation.

—Consensus on modifications to presentation version of roadmap report.

—Agreement on direction for direction for June 1 document version of strategic roadmap report.

—Subcommittee and individual editorial assignments for June 1 document version of strategic roadmap report.

It is imperative that the meeting be held on these dates to accommodate the scheduling priorities of the key participants.

Dated: April 11, 2005.
P. Diane Rausch,
Advisory Committee Management Officer, National Aeronautics and Space Administration.

[FR Doc. 05-7606 Filed 4-15-05; 8:45 am]

BILLING CODE 7510-13-P